DEPARTMENT OF ENERGY

Federal Energy Regulatory Commission

[Docket No. EL03-128-000, et al.]

D.E. Shaw Plasma Power, L.L.C., et al.; Electric Rate and Corporate Filings

May 30, 2003.

The following filings have been made with the Commission. The filings are listed in ascending order within each docket classification.

1. D.E. Shaw Plasma Power, L.L.C.

[Docket No. EL03-128-000]

Take notice that on May 28, 2003, D. E. Shaw Plasma Power, L.L.C. (the Petitioner) tendered for filing with the Federal Energy Regulatory Commission (Commission) a Petition for Declaratory Order Disclaiming Jurisdiction; and Request for Expedition. The Petitioner is asking the Commission for an order declaring that: (1) D.E. Shaw & Co., L.P. (DESCO LP) will not be deemed a public utility under Section 201” of the Federal Power Act (FPA), 16 U.S.C. 824(e); (2) the license agreement between DESCO LP and D.E. Shaw & Co. Energy, L.L.C. (DESCO Energy) will not be considered a jurisdictional facility under the FPA; (3) the advisory services that DESCO Energy proposes to provide to DESCO LP will not be considered activities subject to the Commission's FPA jurisdiction; and (4) the Commission's disclaimers of jurisdiction in Paragraphs 15, 19, 20, and 23 of D.E. Shaw Plasma Power, L.L.C., 102 FERC § 61,275 dated March 7, 2003 with respect to the interests, persons, and entities referenced therein apply to the new circumstances described in the petition. Comment Date: June 20, 2003.

2. West Georgia Generating Company, LLC

[Docket No. ER99-2186-002]

Take notice that on May 28, 2003, West Georgia Generating Company, LLC (West Georgia) tendered for filing a triennial market-power analysis in compliance with the order granting it authority to make sales at market-based rates.

Comment Date: June 18, 2003.

3. Consumers Energy Company

[Docket No. ER01-318-006]

Take notice that on May 28, 2003, Consumers Energy Company (Consumers) tendered for filing Second Sub Original Sheet No. 136 of its First Revised FERC Electric Tariff No. 6 in compliance with the May 12, 2003 Order issued in this proceeding. Consumers states that The sheet being filed is to become effective November 1, 2000.

Consumers states that copies of the filing were served upon those on the official service list in this proceeding.

Comment Date: June 18, 2003.

4. New York Independent System Operator, Inc.

[Docket No. ER03-13-004]

Take notice that on May 12, 2003, the New York Independent System Operator, Inc., (NYISO) tendered for filing a compliance filing in accordance with the Commission's April 11, 2003 Order, in Docket Nos. ER03-13-001 and 002. The NYISO has requested an effective date of May 12, 2003.

NYISO states that it has served a copy of this filing upon all parties that have executed service agreements under the NYISO's Open Access Transmission Tariff or the Services Tariff and upon the New York State Public Service Commission and to the electric utility regulatory agencies in New Jersey and Pennsylvania.

Comment Date: June 13, 2003.

5. San Diego Gas & Electric Company

[Docket No. ER03-548-002]

Take notice that on May 28, 2003, San Diego Gas & Electric Company (SDG&E), pursuant to FERC's Order issued May 8, 2003 in Docket Nos. ER03-548-000 and 001, tendered for filing its First Revised Service Agreement Nos. 9 and 11 to its FERC Electric Tariff, First Revised Volume No. 6. SDG&E states that these agreements were accepted for filing on May 8, 2003, conditioned upon SDG&E's filing of designations for both interconnection facilities agreements in compliance with Order No. 614 and section 35.9(a) of the Commission's Regulations.

SDG&E states that copies of the filing have been served on CalPeak Power and on the California Public Utilities Commission.

Comment Date: June 18, 2003.

6. Devon Power LLC, Middletown Power LLC, Montville Power LLC, Norwalk Power LLC, and NRG Power Marketing Inc.

[Docket No. ER03-563-006]

Take notice that on May 28, 2003, Devon Power LLC, Middletown Power LLC, Montville Power LLC, Norwalk Power LLC (collectively Applicants) and NRG Power Marketing Inc., tendered for filing in compliance with the Commission's Order issued April 25, 2003, the revised Cost of Service Agreements among each of the Applicants, NRG Power Marketing Inc., as agent for each Applicant, and ISO New England Inc.

Applicants state that they have provided copies of this filing to ISO-NE, the affected state regulatory authorities, counsel to the NEPOOL Participants Committee, and the NEPOOL Participants identified in their filing.

Comment Date: June 18, 2003.

7. ISO New England Inc.

[Docket No. ER03-854-001]

Take notice that on May 28, 2003, ISO New England Inc. (the ISO) tendered an Errata Filing to correct a tariff sheet contained in the May 15, 2003, filing made in Docket No. ER03-854-000. The ISO states that copies of the Errata Filing have been served upon the parties in the above-captioned proceeding.

Comment Date: June 18, 2003.

8. D.E. Shaw Plasma Trading, L.L.C.

[Docket No. ER03-879-000]

Take notice that on May 28, 2003, D. E. Shaw Plasma Trading, L.L.C. tendered for filing an application for authorization to sell energy, capacity, and ancillary services at market-based rates pursuant to section 205 of the Federal Power Act.

Comment Date: June 18, 2003.

9. D.E. Shaw & Co. Energy, L.L.C.

[Docket No. ER03-880-000]

Take notice that on May 28, 2003, D. E. Shaw & Co. Energy, L.L.C. tendered for filing an application for authorization to sell energy, capacity, and ancillary services at market-based rates pursuant to section 205 of the Federal Power Act.

Comment Date: June 18, 2003.

10. D.E. Shaw Plasma Power, L.L.C.

[Docket No. ER03-882-000]

Take notice that on May 28, 2003, D. E. Shaw Plasma Power, L.L.C., tendered for filing an application for authorization to sell energy, capacity, and ancillary services at market-based rates pursuant to section 205 of the Federal Power Act.

Comment Date: June 18, 2003.

11. Ameren Services Company

[Docket No. ER03-883-000]

Take notice that on May 28, 2003, Ameren Services Company (ASC) tendered for filing a Transmission System Interconnection Agreement and Parallel Operating Agreement between ASC and Bio-Energy Partners. ASC asserts that the purpose of the Agreement is to permit ASC to provide transmission service to Bio-Energy Partners pursuant to Ameren's Open Access Transmission Tariff.

Comment Date: June 18, 2003.

12. Nordic Marketing of Ohio, L.L.C.

[Docket No. ER03-885-000]

Take notice that on May 28, 2003, Nordic Marketing of Ohio, L.L.C. petitioned the Commission to: (1) Accept for filing its Rate Schedule FERC No. 1, which will permit it to sell electric energy and capacity to wholesale customers at market-based rates and permit transmission capacity reassignment; (2) waive 60 days' notice and allow that rate schedule to become effective 60 days after filing or the date the Commission issues an order accepting the rate schedule, whichever occurs first; and (3) grant such other waivers and blanket authorizations as have been granted to other power marketers.

Comment Date: June 18, 2003.

13. Entergy Services, Inc.

[Docket No. ER03-886-000]

Take notice that on May 28, 2003, Entergy Services, Inc., on behalf of Entergy Arkansas, Inc., tendered for filing the Thirty-second Amendment to the Power Coordination, Interchange and Transmission Service Agreement between Entergy Arkansas, Inc. and Arkansas Electric Cooperative Corporation, dated March 1, 2003. Entergy Services, Inc., states that the Thirty-second Amendment modifies Exhibit A to Appendix A of Rate Schedule No. 82.

Comment Date: June 18, 2003.

14. Nordic Marketing of Pennsylvania, L.L.C.

[Docket No. ER03-887-000]

Take notice that on May 28, 2003, Nordic Marketing of Pennsylvania, L.L.C. petitioned the Commission to: (1) Accept for filing its Rate Schedule FERC No. 1, which will permit it to sell electric energy and capacity to wholesale customers at market-based rates and permit transmission capacity reassignment; (2) waive 60 days' notice and allow that rate schedule to become effective 60 days after filing or the date the Commission issues an order accepting the rate schedule, whichever occurs first, and (3) grant such other waivers and blanket authorizations as have been granted to other power marketers.

Comment Date: June 18, 2003.

15. Nordic Marketing of Illinois, L.L.C.

[Docket No. ER03-888-000]

Take notice that on May 28, 2003, Nordic Marketing of Illinois, L.L.C. petitioned the Commission to: (1) Accept for filing its Rate Schedule FERC No. 1, which will permit it to sell electric energy and capacity to wholesale customers at market-based rates and permit transmission capacity reassignment; (2) waive 60 days' notice and allow that rate schedule to become effective 60 days after filing or the date the Commission issues an order accepting the rate schedule, whichever occurs first, and (3) grant such other waivers and blanket authorizations as have been granted to other power marketers.

Comment Date: June 18, 2003.

16. Consumers Energy Company

[Docket No. ES02-36-003]

Take notice that on May 22, 2003, Consumers Energy Company (Consumers) submitted an amendment to its original application in this proceeding, pursuant to section 204 of the Federal Power Act. This amendment seeks authorization to issue up to an additional: (1) $750 million (for a total of $1.75 billion) of long-term securities for general corporate purposes, (2) $1 billion (for a total of $1.5 billion) of long-term securities for refinancing or refunding of existing long-term securities, and (3) $1.45 billion (for a total of $2.65 billion) of long-term first mortgage bonds to be issued as security for other long-term securities.

Consumers also requests a waiver of the Commission's competitive bidding and negotiated placement requirements at 18 CFR 34.2.

Comment Date: June 20, 2003.

17. Old Dominion Electric Cooperative

[Docket No. ES03-39-000]

Take notice that on May 22, 2003, Old Dominion Electric Cooperative (Old Dominion) submitted an application pursuant to section 204 of the Federal Power Act seeking authorization to guarantee obligations in an amount not to exceed $150 million at any one time.

Old Dominion also requests a waiver from the Commission's competitive bidding and negotiated placement requirements at 18 CFR 34.2.

Comment Date: June 13, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-14332 Filed 6-5-03; 8:45 am]

BILLING CODE 6717-01-P